DEPARTMENT OF COMMERCE

National Oceanic and Atmospheric Administration

[I.D. 091002G]

South Atlantic Fishery Management Council; Public Meetings

AGENCY: National Marine Fisheries Service (NMFS), National Oceanic and Atmospheric Administration (NOAA), Commerce.

ACTION: Notice of public meetings.

SUMMARY: The South Atlantic Fishery Management Council will hold a meeting of its Habitat and Environmental Protection Advisory Panel (AP) and a joint meeting of the Habitat and Environmental Protection AP and Coral Advisory Panel in Charleston, SC.

DATES: The meetings will be held October 1-3, 2002. See SUPPLEMENTARY INFORMATION for specific dates and times.

ADDRESSES: These meetings will be held at the Town and Country Inn, 2008 Savannah Highway, Charleston, SC 29407; telephone: 843-571-1000 or 1-800-334-6660.

FOR FURTHER INFORMATION CONTACT: Kim Iverson, Public Information Officer; telephone: (843) 571-4366; fax: (843) 769-4520; e-mail: kim.iverson@noaa.gov.

SUPPLEMENTARY INFORMATION: The Habitat and Environmental Protection AP will meet October 1, 2002 from 1 p.m. until 5:30 p.m. and October 2, 2002, from 8:30 a.m. until 12 noon. The Habitat and Environmental Protection AP and Coral Advisory Panel will meet jointly October 2, 2002, from 1:30 p.m. until 5:30 p.m. and October 3, 2002 from 8:30 a.m. until 3 p.m.

Habitat and Environmental Protection AP Meeting—The AP will be briefed on and discuss the Final Essential Fish Habitat (EFH) Rule which was published on January 17, 2002 replacing the interim Final Rule of December 19, 1997 on which the original EFH and EFH-Habitat Area of Particular Concern (EFH-HAPC) designations were made. The Councils have, pursuant to the Final EFH Rule, been directed to update EFH and EFH-HAPC information and designations; in addition, pursuant to revisions to NOAA General Counsel interpretation of the National Environmental Policy Act (NEPA) the Councils will be required to update all Environmental Impact Statements (EIS) for all Federal Fishery Management Plans under their jurisdiction.

Information compiled during this process will further facilitate meeting both the EFH and the NEPA mandate. The AP will discuss a Council workshop process that integrates two directives in the Final Rule for Essential Fish Habitat: (1) the review and update of EFH information, and (2) the consideration of ecosystem-based management through development of a Fishery Ecosystem Plan (EEP) for the South Atlantic Region.

In addition, the Habitat and Environmental Protection AP will review and make recommendations and draft revisions to Council habitat policy statements on Oil and Gas Exploration, Development and Transportation, and Dredging and Dredge Disposal. The AP will also initiate the development of policy statement on in-stream flow.

Joint Habitat AP and Coral AP Meeting—The Coral AP will provide additional input on draft revisions to policy statements. During the joint meeting, the panels will discuss and develop recommendations on additional Coral HAPCs, hear a presentation on deepwater habitats off of North Carolina and receive a briefing on nearshore mapping efforts. The Panels will also discuss preliminary characterization of habitat associated with Marine Protected Areas (MPAs) proposed for public hearing.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to the Council office (see ADDRESSES) by September 27, 2002.

Dated: September 12, 2002.
Richard W. Surdi,
Acting Director, Office of Sustainable Fisheries, National Marine Fisheries Service.

[FR Doc. 02-23622 Filed 9-16-02; 8:45 am]

BILLING CODE 3510-22-S